DEPARTMENT OF ENERGY

Federal Energy Regulatory Commission

[Docket No. CP18-507-000]

Columbia Gas Transmission, LLC; Notice of Request Under Blanket Authorization

Take notice that on June 19, 2018, Columbia Gas Transmission, LLC (Columbia), 700 Louisiana Street, Houston, Texas 77002-2700, filed in Docket No. CP18-507-000 a prior notice request pursuant to sections 157.205, 157.208, and 157.216 of the Commission's regulations under the Natural Gas Act (NGA), and Columbia's blanket certificate issued in Docket No. CP83-76-000, to perform installations and activities to enable the in-line inspection, or pigging, of its 12-inch-diameter Line 5 (Line 5 Launcher & Receiver Project: Freedom Way to Meade's Rest). The proposed project installations and activities will include modifications to the existing pipeline at 22 locations (Mod Points) along 22.7 miles of the existing Line 5 right-of-way, and the installation of two bi-directional launching and receiving stations and related appurtenances. The project is located along the Ohio River in Brooke County, West Virginia, and Jefferson and Columbiana counties, Ohio.

Columbia's project proposes to perform installations and modifications to Columbia's existing Line 5 to allow for the internal passage of ILI devices, or pigging, in order to assess the integrity of the pipeline. Columbia states that the project is required to ensure compliance with the Pipeline and Hazardous Materials Safety Administration requirements for inspections of pipeline systems to ensure their safety and reliability.

The project will consist of various modification activities at 22 Mod Points to enable the in-line inspection, or pigging, of Line 5. Specifically, Columbia proposes to (1) install one new 24-inch x 20-inch bi-directional launcher/receiver station, valves, fitting, and pipe at Mod Point 1 in Brooke County, West Virginia; (2) install one new 24-inch x 20-inch bi-directional launcher/receiver at Mod Point 18 in Columbiana County, Ohio; (3) install, replace, or remove appurtenances, including valves, elbows, and pipe, at the remaining 20 Mod Points within Brooke County, West Virginia, and Jefferson and Columbiana Counties, Ohio; and (4) abandon in-place existing pipeline segments at Mod Point 1 in Brooke County, West Virginia, and at Mod Points 3, and 11 in Jefferson County, Ohio, all as more fully set forth in the application which is on file with the Commission and open to public inspection.

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Linda Farquhar, Manager, Project Determinations & Regulatory Administration, Columbia Gas Transmission, LLC, 700 Louisiana Street, Suite 700, Houston, Texas 77002-2700, by telephone at (832) 320-5685, by facsimile at (832) 320-6685, or by email at linda_farquhar@transcanada.com.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters, will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and seven copies of the protest or intervention to the Federal Energy Regulatory Commission, 888 First Street NE, Washington, DC 20426.

Dated: June 29, 2018.
Kimberly D. Bose,
Secretary.

[FR Doc. 2018-14559 Filed 7-6-18; 8:45 am]

BILLING CODE 6717-01-P